DEPARTMENT OF THE INTERIOR

Fish and Wildlife Service

50 CFR Part 17

[Docket No. FWS-R4-ES-2021-0162; FF09E22000 FXES1113090FEDR 223]

RIN 1018-BF54

Endangered and Threatened Wildlife and Plants; Removal of the Puerto Rican Boa From the Federal List of Endangered and Threatened Wildlife

AGENCY: Fish and Wildlife Service, Interior.

ACTION: Proposed rule; reopening of comment period and announcement of public hearing.

SUMMARY: On July 13, 2022, we, the U.S. Fish and Wildlife Service (Service), proposed to delist the Puerto Rican boa (Chilabothrus inornatus, but listed as Epicrates inornatus), an endemic snake from Puerto Rico. We announced a 60-day public comment period on the proposed rule, ending September 12, 2022. We are reopening the comment period for 30 days to hold a public hearing and to allow all interested parties additional time to comment on our proposal. Comments previously submitted will be fully considered in preparation of the final rule and do not need to be resubmitted.

DATES:

Comment submission: We will accept comments received or postmarked on or before March 2, 2023. Please note that comments submitted electronically using the Federal eRulemaking Portal (see ADDRESSES, below) must be received by 11:59 p.m. eastern time on the closing date, and comments submitted by U.S. mail must be postmarked by that date to ensure consideration.

Public hearing: On February 16, 2023, we will hold a public hearing from 6 to 7:30 p.m., eastern time, using the Zoom platform (for more information, see Public Hearing, below).

ADDRESSES: Availability of documents: You may obtain copies of the July 13, 2022, proposed rule and associated documents on the internet at https://www.regulations.gov under Docket No. FWS-R4-ES-2021-0162.

Written comments: You may submit written comments by one of the following methods:

(1) Electronically: Go to the Federal eRulemaking Portal: https://www.regulations.gov. In the Search box, enter FWS-R4-ES-2021-0162, which is the docket number for this rulemaking. Then, click on the Search button. On the resulting page, in the Search panel on the left side of the screen, under the Document Type heading, click on the Proposed Rule box to locate this document. You may submit a comment by clicking on “Comment.” Please ensure you have located the correct document before submitting your comments.

(2) By hard copy: Submit by U.S. mail to: Public Comments Processing, Attn: FWS-R4-ES-2021-0162, U.S. Fish and Wildlife Service, MS: PRB/3W, 5275 Leesburg Pike, Falls Church, VA 22041-3803.

We request that you send comments only by the methods described above. We will post all comments on https://www.regulations.gov. This generally means that we will post any personal information you provide us (see Public Comments, below, for more information).

Public hearing: Interested parties may present verbal testimony (formal, oral comments) at a public hearing, which will be held virtually using the Zoom platform. See Public Hearing, below, for more information.

FOR FURTHER INFORMATION CONTACT: Edwin Muñiz, Field Supervisor, U.S. Fish and Wildlife Service, Caribbean Ecological Services Field Office, P.O. Box 491, Boquerón, PR 00622; email: Caribbean_es@fws.gov; telephone: (787) 405-3641. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Background

On July 13, 2022, we published a proposed rule (87 FR 41641) to remove the Puerto Rican boa from the Federal List of Endangered and Threatened Wildlife (List) under the Endangered Species Act of 1973, as amended (Act; 16 U.S.C. 1531 et seq.). The proposed rule opened a 60-day public comment period, ending September 12, 2022. During the comment period, we received a request for a public hearing that could not be accommodated prior to the close of the comment period. Therefore, we are reopening the proposed rule's comment period and announcing a public hearing (see DATES and ADDRESSES, above) to allow the public an additional opportunity to provide comments on the proposed rule.

For a description of previous Federal actions concerning the Puerto Rican boa and information on the types of comments that would be helpful to us in promulgating this rulemaking action, please refer to the July 13, 2022, proposed rule (87 FR 41641).

Public Hearing

We are holding a public hearing to accept comments on the July 13, 2022, proposed rule on the date and at the time listed above in DATES. We are holding the public hearing via the Zoom online video platform and via teleconference so that participants can attend remotely. For security purposes, registration is required. All participants must register in order to listen and view the hearing via Zoom, listen to the hearing by telephone, or provide oral public comments at the hearing by Zoom or telephone. For information on how to register, or if technical problems occur joining Zoom on the day of the hearing, visit https://www.fws.gov/office/caribbean-ecological-services/library. Registrants will receive the Zoom link and the telephone number for the public hearing. If applicable, interested members of the public not familiar with the Zoom platform should view the Zoom video tutorials (https://support.zoom.us/hc/en-us/articles/206618765-Zoom-video-tutorials) prior to the public hearing.

The public hearing will provide interested parties an opportunity to present verbal testimony (formal, oral comments) regarding the July 13, 2022, proposed rule to delist the Puerto Rican boa (87 FR 41641). The public hearing will not be an opportunity for dialogue with the Service, but rather a forum for accepting formal verbal testimony. In the event there is a large attendance, the time allotted for oral statements may be limited. Therefore, anyone wishing to make an oral statement at the public hearing for the record is encouraged to provide a prepared written copy of their statement to us through the Federal eRulemaking Portal or U.S. mail (see ADDRESSES, above). There are no limits on the length of written comments submitted to us. Anyone wishing to make an oral statement at the public hearing must register before the hearing (https://www.fws.gov/office/caribbean-ecological-services/library). The use of a virtual public hearing is consistent with our regulations at 50 CFR 424.16(c)(3).

Reasonable Accommodation

The Service is committed to providing access to the public hearing for all participants. Closed captioning will be available during the public hearing in both English and Spanish. Participants will also have access to live audio during the public hearing via their telephone or computer speakers. Persons with disabilities requiring reasonable accommodations to participate in the hearing should contact the person listed under FOR FURTHER INFORMATION CONTACT at least 5 business days prior to the date of the hearing to help ensure availability. An accessible version of the Service's presentation will also be posted online at https://www.fws.gov/office/caribbean-ecological-services/library prior to the hearing (see DATES, above). See https://www.fws.gov/office/caribbean-ecological-services/library for more information about reasonable accommodation.

Public Comments

If you submit information via https://www.regulations.gov, your entire submission—including any personal identifying information—will be posted on the website. If your submission is made via hard copy that includes personal identifying information, you may request at the top of your document that we withhold this information from public review. However, we cannot guarantee that we will be able to do so. We will post all hardcopy submissions on https://www.regulations.gov.

Comments and materials we receive, as well as supporting documentation we used in preparing the proposed rule, will be available for public inspection on https://www.regulations.gov.

Authors

The primary authors of this document are staff members of the Caribbean Ecological Services Field Office and the Service's Ecological Services Species Assessment Team.

Authority

The authority for this action is the Endangered Species Act of 1973, as amended (16 U.S.C. 1531 et seq.).

Martha Williams,
Director, U.S. Fish and Wildlife Service.

[FR Doc. 2023-01139 Filed 1-30-23; 8:45 am]

BILLING CODE 4333-15-P